NATIONAL SCIENCE FOUNDATION

Sunshine Act Meetings

The National Science Board's (NSB) Committee on Oversight hereby gives notice of the scheduling of a teleconference for the transaction of National Science Board business pursuant to the National Science Foundation Act and the Government in the Sunshine Act.

TIME AND DATE: Friday, July 29, 2022, from 1:00-2:00 p.m. EDT.

PLACE: This meeting will be held by video conference through the National Science Foundation.

STATUS: Open.

MATTERS TO BE CONSIDERED: The agenda of the teleconference is: Committee Chair's opening remarks, including review of pillars for action in the 2022-2024 term; discussion of demographic data collection; Office of the Inspector General report; Chief Financial Officer report; and Committee Chair's closing remarks.

CONTACT PERSON FOR MORE INFORMATION: Point of contact for this meeting is: (Chris Blair, cblair@nsf.gov), 703/292-7000. Members of the public can observe this meeting through a You Tube livestream. Access the livestream at https://youtu.be/dJFgYVVao2I.

Chris Blair,
Executive Assistant to the National Science Board Office.

[FR Doc. 2022-16078 Filed 7-22-22; 11:15 am]

BILLING CODE 7555-01-P